DEPARTMENT OF THE INTERIOR

National Park Service

[NPS-WASO-NAGPRA-14599; PPWOCRADN0-PCU00RP14.R50000]

Notice of Inventory Completion: State Historical Society of Wisconsin, Madison, WI

AGENCY: National Park Service, Interior.

ACTION: Notice.

SUMMARY: The State Historical Society of Wisconsin (WHS) has completed an inventory of human remains and associated funerary objects, in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to the State Historical Society of Wisconsin. If no additional requestors come forward, transfer of control of the human remains and associated funerary objects to the Indian tribes or Native Hawaiian organizations stated in this notice may proceed.

DATES: Representatives of any Indian tribe or Native Hawaiian organization not identified in this notice that wish to request transfer of control of these human remains and associated funerary objects should submit a written request with information in support of the request to the State Historical Society of Wisconsin at the address in this notice by February 18, 2014.

ADDRESSES: Jennifer Kolb, Wisconsin Historical Museum, 30 North Carroll Street, Madison, WI 53703, telephone (608) 261-2461, email Jennifer.Kolb@wisconsinhistory.org.

SUPPLEMENTARY INFORMATION: Notice is here given in accordance with the Native American Graves Protection and Repatriation Act (NAGPRA), 25 U.S.C. 3003, of the completion of an inventory of human remains and associated funerary objects under the control of the State Historical Society of Wisconsin, Madison, WI. The human remains and associated funerary objects were removed from multiple sites in Dane County, WI.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the State Historical Society of Wisconsin professional staff in consultation with representatives of the Forest County Potawatomi Community, Wisconsin; Ho-Chunk Nation of Wisconsin; and the Menominee Indian Tribe of Wisconsin.

History and Description of the Remains

In 1931, human remains representing, at minimum, three individuals (1996.93.2) were removed from the Outlet Site (47-DA-0003) in Dane County, WI. Road construction cut into Mound 5 on the site, disturbing a burial. Charles E. Brown, founder of the Wisconsin Archeological Society and director of the State Historical Society, excavated the mound and discovered two more burials. All three burials were described as bundle burials. The remains were determined to be those of two adult males and one adult female. No known individuals were identified. No associated funerary objects are present.

In 1934, human remains representing, at minimum, one individual (A12808) were removed from the Outlet Site (47-DA-0003) in Dane County, WI. The remains were discovered in 1933 by the owner of the property while digging for a septic tank and were subsequently excavated by Charles E. Brown in 1934. The remains were determined to be those of an adult, possibly male. No known individuals were identified. No associated funerary objects are present.

In 1935, human remains representing, at minimum, three individuals (A12844) were removed from the Yahara Hoyt Site (47-DA-0026) in Dane County, WI. The remains were discovered in an oval mound by members of the Wisconsin Outers Association of Madison and excavated under the direction of Charles E. Brown. The remains were determined to be those of three adults—one female, one male, and one individual of indeterminate sex. No known individuals were identified. No associated funerary objects are present.

In 1987, human remains representing, at minimum, one individual (HP.DA-0029.1) were removed from the Koshkonong Mound Group (47-DA-0029) in Dane County, WI. The remains were disturbed during excavation for a house foundation. State Historical Society of Wisconsin staff investigated and discovered that a mound was being disturbed. The burial was discovered in backfill dirt, meaning the primary location of the burial within the mound could not be determined. The remains were determined to be those of an adult male. No known individuals were identified. No associated funerary objects are present.

In 1962, human remains representing, at minimum, two individuals (F1996.21.1 and F1996.21.2) were removed from the Olson Site (47-DA-0089) in Dane County, WI. The remains were excavated by a WHS archeological crew from two sub-floor burial pits in a partially destroyed conical mound. They were determined to be those of an adult, possibly female, and a child of indeterminate sex. No known individuals were identified. No associated funerary objects are present.

In 1934, human remains representing, at minimum, one individual (H13016) were removed from the Fuller Woods Mound Group (47-DA-0118) in Dane County, WI. The remains were excavated by a WHS archeological crew from a partially disturbed linear mound. The archeologists recovered numerous cranial fragments from a burial located beneath an ash pit that were determined to be from an adult of indeterminate sex. No known individuals were identified. The one associated funerary object is a partially reconstructed grit-tempered pottery vessel (1982.46.1.1-.97).

In 1935, human remains representing, at minimum, one individual (A12843 and A12843.1) were removed from the Willow Drive Mounds (47-DA-0119) in Dane County, WI. The remains were excavated from a bird effigy mound on the University of Wisconsin-Madison campus by Charles E. Brown. Three mandible fragments were loaned to the University of Wisconsin-Madison Anthropology Department at an unknown time and returned to the WHS in 2011. The remains were determined to be those of a young adult male. No known individuals were identified. The one associated funerary object is a single fragmentary coyote mandible (1950.1627).

In 1937, human remains representing, at minimum, one individual (A12957) were removed from the Willow Drive Mounds (47-DA-0119) in Dane County, WI. The remains were excavated from a linear mound on the University of Wisconsin-Madison campus by Charles E. Brown. They were determined to be those of a young adult male. No known individuals were identified. The one associated funerary object is the fragmentary remains of a red fox (1984.16).

In 1939, human remains representing, at minimum, three individuals (1996.93.4 and 1996.93.5) were removed from the Picnic Point Mound Group (47-DA-0121) in Dane County, WI. The remains were discovered and excavated by a Works Progress Administration (WPA) mound repair crew and Charles E. Brown. They were determined to be those of an adult female, an adult male, and a young adult female. No known individuals were identified. No associated funerary objects are present.

In 1973, human remains representing, at minimum 78 individuals (1986.417.1—1986.417.15) were removed from the Mendota Beach Mound Group (47-DA-0129). The remains were removed by WHS archeologist John Halsey from three conical mounds, which have since been destroyed. The remains were determined to be those of 30 subadults, 23 adult males, 11 adult females, and 14 adults of indeterminate sex. No known individuals were identified. The three associated funerary objects are a group of chert flakes (1986.417.42), a chert biface fragment (1986.417.43), and a group of faunal bones (1986.417.44).

In 1915, human remains representing, at minimum, one individual (A02522 and 2011.115.11) were removed from the Dividing Ridge Mound Group (47-DA-0145) in Dane County, WI. The remains were discovered during the destruction of a linear mound above the Pieh gravel pit on the Lake Wingra Ridge. WHS archeologist Marion Cranefield was on site when a construction worker discovered the remains and assisted in the excavation. A portion of the remains were loaned to the University of Wisconsin-Madison Anthropology Department in 1967 and returned to the WHS in 2011. They were determined to be those of an adult male. No known individuals were identified. The associated funerary object is a wood fragment (2011.115.11.1).

In 1939, human remains representing, at minimum, two individuals (A12982) were removed from the Edgewood Mound Group (47-DA-0147) in Dane County, WI. A WPA work group working to repair mounds in Madison found a human bone in a conical mound. Charles E. Brown excavated and discovered two burials in the mound floor. The remains were determined to be those of an adult male and an adult female. No known individuals were identified. No associated funerary objects are present.

At an unknown date, human remains representing, at minimum, two individuals (F2013.199.1) were removed from the Arboretum Woods site (47-DA-0152) in Dane County, WI. The remains were excavated from a conical mound in the University of Wisconsin-Madison Arboretum. They were determined to be those of an adult male and a sub-adult of indeterminate sex. No known individuals were identified. No associated funerary objects are present.

In 1922, human remains representing, at minimum, five individuals (1996.93.8) were removed from the Mendota Beach site (47-DA-0172) in Dane County, WI. The five burials were disturbed during excavation for a barn on land belonging to Magnus Swenson. Either Swenson or David Atwood donated the remains to the WHS the same year. The remains were determined to be those of five individuals—three elderly adults, one adult, and one juvenile—all of indeterminate sex. No known individuals were identified. No associated funerary objects are present.

In 1991, human remains representing, at minimum, one individual (HP.DA-0237.1) were removed from the Springdale Mound Group (47-DA-0237) in Dane County, WI. The WHS was notified that a proposed Wisconsin Department of Transportation frontage road was going to be constructed through an area where an Indian mound once existed, possibly disturbing any burials that could remain. Staff monitored machine-stripping of the area to look for evidence of intact burials, and a small concentration of human bone was discovered and excavated. The remains were determined to be from an adult, possibly female. No known individuals were identified. No associated funerary objects are present.

In 1929, human remains representing, at minimum, two individuals (1950.1624) were removed from the Farwell's Point Mound Group (47-DA-0255) in Dane County, WI. The remains were excavated by Charles E. Brown from a small conical mound. They were determined to be those of an adult and juvenile, both of indeterminate sex. No known individuals were identified. No associated funerary objects are present.

In 1952, human remains representing, at minimum, one individual (1952.339) were removed from the Farwell's Point Mound Group (47-DA-0255) in Dane County, WI. A femur fragment was discovered by WHS archeologists during the excavation of a mound adjacent to the superintendent's residence at Mendota State Hospital. The mound had been disturbed in the recent past and an attempt had been made to restore it. The femur fragment was found in the disturbed area, suggesting that the burial had been destroyed by this disturbance. It was determined that the fragment was from a young adult of indeterminate sex. No known individuals were identified. No associated funerary objects are present.

At an unknown date, human remains representing, at minimum, one individual (1969A.42.104-.109) were removed from the Farwell's Point Mound Group (47-DA-0255) in Dane County, WI. The remains were uncovered and donated to the WHS by Charles E. Brown. Neither sex nor age could be determined for the remains. No known individuals were identified. No associated funerary objects are present.

In 1985, human remains representing, at minimum, one individual (1987.33.3) were removed from the Morris Park Mound Group (47-DA-0267) in Dane County, WI. An excavation of the site was conducted by Victoria Dirst of the Wisconsin Department of Natural Resources, Bureau of Parks and Recreation in preparation for a road construction project. When the site was originally mapped in 1902, it contained six conical mounds, three panther effigy mounds, and two linear mounds. At the time of excavation, four of these mounds had been largely destroyed, but seven were still intact. The partially cremated remains were excavated from pit feature 3, located about 10 meters from Mound 1. The remains and associated funerary objects were given to the WHS in 1987 as part of a cooperative agreement between the Wisconsin Department of Natural Resources and the WHS. Neither sex nor age could be determined for the remains. No known individuals were identified. The one associated funerary object consists of a group of chert fragments (1987.33.3.1).

In 1928, human remains representing, at minimum, one individual (A10120) were removed from the Crystal Lake Burials and Village site (47-DA-0335) in Dane County, WI. The remains were discovered by a road crew while excavating gravel. The burial was removed and reported to Sheriff Fred Finn, who gave the remains to the WHS. The remains were determined to be those of an adult male. No known individuals were identified. No associated funerary objects are present.

In 1929, human remains representing, at minimum, three individuals (A12857) were removed from the Crystal Lake Burials and Village site (47-DA-0335) in Dane County, WI. The remains were discovered by a road crew while plowing the crest of a hill to excavate gravel. They notified the WHS of their discovery, and Charles E. Brown excavated the burials. Brown donated the remains to the WHS in 1935. The remains were determined to be those of an adult male, an adult female, and a fetus of indeterminate sex. No known individuals were identified. The associated funerary objects are a group of chert flakes and a fragmentary turtle carapace (A12857.1 and A12857.2).

In 1932, human remains representing, at minimum, two individuals (F1996.22.1) were removed from the Mendota Beach Burials site (47-DA-0382) in Dane County, WI. The burials were disturbed during road construction and were located about 300 feet from one another. One of the burials had previously been partially disturbed by digging for a flower bed on the neighboring property. William F. Wagner donated the remains to the WHS the same year. The remains were determined to be those of two adults, possibly a male and a female. No known individuals were identified. No associated funerary objects are present.

In 1954, human remains representing, at minimum, one individual (1956.9) were removed from the Mendota Hills Bird Effigy site (47-DA-0409) in Dane County, WI. The remains were discovered during the mapping and partial excavation of a bird effigy mound by WHS archeologist Warren Wittry and a group of University of Wisconsin-Madison archeology graduate students. WHS was notified of the mound by a construction company after a bulldozer partially destroyed it during construction of the Mendota Hills Subdivision. During excavation, it was determined that the site had recently been looted, but the looters had not disturbed the burial pit. The remains were determined to be those of a child of indeterminate sex. No known individuals were identified. No associated funerary objects are present.

In 1929, human remains representing, at minimum, one individual (F2008.42.1) were removed from the Woodward Shores Mound Group (47-DA-0530) in Dane County, WI. The remains were discovered when a bird effigy mound was dug into during construction of a home. The landowners, Dr. and Mrs. Samuel Harper, had been told to watch for burials as they dug into the mound and excavated the remains before continuing with the construction project. Three burials were found, but two of the burials were in a very poor state of preservation and were not saved by the excavators. Mrs. Harper contacted Charles E. Brown concerning the discovery and the remains were given to the WHS. The remains were determined to be those of an adult male. No known individuals were identified. No associated funerary objects are present.

In 1986, human remains representing, at minimum, one individual (1994.113.53) were removed from the Camp Indianola site (47-DA-0533) in Dane County, WI. Archeologist Victoria Dirst discovered the burial during an excavation of the site for the Department of Natural Resources, who transferred them to the WHS as part of cooperative agreement. The remains were determined to be those of an adult female. No known individuals were identified. No associated funerary objects are present.

In 1915, human remains representing, at minimum, one individual (1950.1225) were removed from the Nichols Mortuary Site (47-DA-1284) in Dane County, WI. William McClean uncovered two burials while plowing near the Yahara River Bank at the Nichols farm. McClean donated only a lumbar vertebra with a projectile point embedded in it, and none of the other human remains, to the WHS in 1917. The projectile point was recorded at the time of donation but was not present during re-cataloging in 1950. The vertebra was determined to be from an adult. No known individuals were identified. No associated funerary objects are present.

In 1954, human remains representing, at minimum, two individuals (1956.23.1) were removed from the Nichols Mortuary Site (47-DA-1284) in Dane County, WI. The remains were excavated from Mound 2 by WHS archeologist Warren Wittry. The mound was excavated because it was being destroyed by a construction project. The remains were determined to be those of an adult female and an individual of indeterminate age and sex. No known individuals were identified. No associated funerary objects are present.

In 1995, human remains representing, at minimum, one individual (HP.DA-1395.1) were removed from the Birmingham's Knee Site (47-DA-1395) in Dane County, WI. A femoral condyle fragment was discovered by then state archeologist Bob Birmingham eroding out of tree roots along the lakeshore. No other skeletal material was recovered. The bone fragment was determined to be from an adult of indeterminate sex. No known individuals were identified. No associated funerary objects are present.

In 1900, human remains representing, at minimum, six individuals (A00031 and A02580.1) were removed from a gravel pit at an unknown site along Oregon Road in South Madison, Dane County, WI. Mr. Absalom Van Deusen donated the remains to the WHS that same year. The remains were loaned to the University of Wisconsin-Madison Anthropology Department in 1949 and returned to the WHS in 2011. The remains were determined to be those of three adult males, one juvenile female, and two adults of indeterminate sex. No known individuals were identified. No associated funerary objects are present.

In 1939, human remains representing, at minimum, three individuals (2011.115.3) were removed from an unknown site on the west end of Mendota Beach, in Dane County, WI. The remains were discovered by the landowner, Mr. F.W. Burton, while digging a cellar for his home. Burton contacted Charles E. Brown, who excavated the remains. At an unknown date, the remains were loaned to the University of Wisconsin-Madison Anthropology Department and were returned to the WHS in 2011. The remains were determined to be those of two adult males and one adult of indeterminate sex. No known individuals were identified. No associated funerary objects are present.

Determinations Made by the State Historical Society of Wisconsin

Officials of the State Historical Society of Wisconsin have determined that:

• Pursuant to 25 U.S.C. 3001(9), the human remains described in this notice are Native American based on WHS records, discovery location and context of burial sites, the reported presence of funerary objects in some instances, and skeletal analysis in some instances.

• Pursuant to 25 U.S.C. 3001(9), the human remains described in this notice represent the physical remains of 132 individuals of Native American ancestry.

• Pursuant to 25 U.S.C. 3001(3)(A), the ten objects described in this notice are reasonably believed to have been placed with or near individual human remains at the time of death or later as part of the death rite or ceremony.

• According to final judgments of the Indian Claims Commission or the Court of Federal Claims, the land from which the Native American human remains and associated funerary objects were removed is the aboriginal land of the Ho-Chunk Nation of Wisconsin.

• Treaties, Acts of Congress, or Executive Orders, indicate that the land from which the Native American human remains and associated funerary objects were removed is the aboriginal land of the Ho-Chunk Nation of Wisconsin.

• Pursuant to 43 CFR 10.11(c)(1), the disposition of the human remains and associated funerary objects may be to the Ho-Chunk Nation of Wisconsin.

Additional Requestors and Disposition

Representatives of any Indian tribe or Native Hawaiian organization not identified in this notice that wish to request transfer of control of these human remains and associated funerary objects should submit a written request with information in support of the request to Jennifer Kolb, Wisconsin Historical Museum, 30 North Carroll Street, Madison, WI 53703, telephone (608) 261-2461, email Jennifer.Kolb@wisconsinhistory.org, by February 18, 2014. After that date, if no additional requestors have come forward, transfer of control of the human remains and associated funerary objects to the Ho-Chunk Nation of Wisconsin may proceed.

The State Historical Society of Wisconsin is responsible for notifying the Forest County Potawatomi Community, Wisconsin; the Ho-Chunk Nation of Wisconsin; and the Menominee Indian Tribe of Wisconsin that this notice has been published.

Dated: December 2, 2013.
Melanie O'Brien,
Acting Manager, National NAGPRA Program.

[FR Doc. 2014-00781 Filed 1-15-14; 8:45 am]

BILLING CODE 4312-50-P